DEPARTMENT OF COMMERCE

National Oceanic and Atmospheric Administration

[I.D. 042803I]

New England Fishery Management Council; Public Meetings

AGENCY: National Marine Fisheries Service (NMFS), National Oceanic and Atmospheric Administration (NOAA), Commerce

ACTION: Notice of public meeting.

SUMMARY: The New England Fishery Management Council (Council) is scheduling a joint public meeting of its Herring Oversight Committee and Advisory Panel along with the Atlantic States Marine Fisheries Commission (ASMFC) Section Panel in May, 2003. Recommendations from these committees will be brought to the full Council for formal consideration and action, if appropriate.

DATES: The meeting will held on Wednesday, May 21, 2003 at 7 p.m.

ADDRESSES: The meeting will be held at the King's Grant Hotel, Trask Lane, Route 128, Danvers, MA 01923;telephone: (978) 774-6800.

Council address: New England Fishery Management Council, 50 Water Street, Newburyport, MA 01950.

FOR FURTHER INFORMATION CONTACT: Paul J. Howard, Executive Director, New England Fishery Management Council (978) 465-0492.

SUPPLEMENTARY INFORMATION: The committee will review the May 1, 2003 Herring Plan Development Team (PDT) Report. They will also consider a “rollover” of the Atlantic herring specifications from 2003 through 2004 and until the implementation of Amendment 2 to the Herring Fishery Management Plan (FMP). In consultation with the ASMFC Herring Section, the group will develop Committee recommendations for Council consideration regarding specifications for the 2004 fishing year (January 1 December 31, 2004). Also on the agenda will be an ASMFC Herring Section discussion of herring Internal Waters Processing (IWP) applications for 2004 and other matters pertaining to the ASMFC Herring Management Plan.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: April 29, 2003.
Matteo J. Milazzo,
Acting Director, Office of Sustainable Fisheries, National Marine Fisheries Service.

[FR Doc. 03-11058 Filed 5-2-03; 8:45 am]

BILLING CODE 3510-22-S